DEPARTMENT OF HOUSING AND URBAN DEVELOPMENT

[Docket No. FR-5608-N-01]

Notice of Proposed Information Collection: Survey and Collection of Information From HUD Lead Hazard Control Grantees To Support HUD and EPA Requirements To Study the Lowering of the Lead Hazard Standards and the Lead-Based Paint Standard

AGENCY: Office of Healthy Homes and Lead Hazard Control, HUD.

ACTION: Notice.

SUMMARY: The proposed information collection requirement concerning a survey of selected lead hazard control grantees funded by HUD will be submitted to the Office of Management and Budget (OMB) for review, as required by the Paperwork Reduction Act. The Department is soliciting public comments on the subject proposal.

DATES: Comments Due Date: August 21, 2012.

ADDRESSES: Interested persons are invited to submit comments regarding this proposal. Comments should refer to the proposal by name and/or OMB Control Number and should be sent to: Brittany M. Birdsong, Reports Liaison Officer, Office of Healthy Homes and Lead Hazard Control, Department of Housing and Urban Development, 451 7th Street, SW., Room 8236, Washington, DC 20410.

FOR FURTHER INFORMATION CONTACT: Peter J. Ashley, Department of Housing and Urban Development, 451 7th Street SW., Room 8236, Washington, DC 20410, telephone number (202) 402-7595 (this is not a toll-free number) for copies of the proposed survey and other available documents. Hearing- or speech-challenged individuals may access this number through TTY by calling the toll-free Federal Relay Service at 800-877-8339.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses. This Notice also lists the following information:

Title of Proposal: Survey and Collection of Information from HUD Lead Hazard Control Grantees to Support HUD and EPA Requirements to Study the Lowering of the Lead Hazard Standards and the Lead-Based Paint Standard.

OMB Control Number: Pending.

Need for the Information and Proposed Use: Leaded paint in housing remains as the last major source of lead exposure to young children. Efforts to reduce childhood lead poisoning have focused on controlling lead paint hazards, specifically lead dust and deteriorated lead-based paint. Lead hazard control programs are looking for ways to make this housing safer without placing an undue financial burden on the property owners or tenants.

On August 10, 2009, a petition was submitted to EPA www.regulations.gov; search for EPA-HQ-OPPT-2009-0655) to lower the definition of lead-based paint in pre-1978 “target” housing to some value below the current value of 1 mg/cm ² or 0.5% by weight (42 U.S.C. 4822(c)), and to lower the lead hazard control standards and clearance standards for lead in dust on floors and window sills in such housing and in pre-1978 child-occupied facilities below the current values of 40 and 250 µg/ft ² (micrograms per square foot), respectively (40 CFR 745.65(b) and 745.227(e)(8)(viii), and 24 CFR 35.1320(b)(2)(i)), and below the current clearance standard for window troughs of 400 µg/ft² (40 CFR 745.227(e)(8)(viii), and 24 CFR 35.1320(b)(2)(i)). The HUD Secretary may reduce the level that defines lead-based paint in target housing (42 U.S.C. 4822(c)), and the EPA Administrator identifies the lead-based paint hazard standards (15 U.S.C. 2683), and the lead-based paint standard in child-occupied facilities.

In a response dated October 22, 2009, EPA, writing on behalf of itself and HUD, agreed to study the issues and decide whether the lead hazard standards and/or the lead-based paint standard should be changed, and to collaborate with HUD on this effort. (www.epa.gov/oppt/chemtest/pubs/epa-response.pdf) The Agency and the Department intend to have identical standards for the sake of maximizing their effectiveness in this matter.

One of the issues to be considered is the ability to actually determine “clearance” (a work area is sufficiently clean of lead dust) before allowing re-occupancy. The clearance levels for floors and window sills are the same as the lead hazard standards. This survey will question HUD grantees as to their ability to achieve clearance at the current level for floors and windowsills, and whether it would be technically feasible to achieve clearance at potentially lower levels.

Agency Form Numbers: None.

Members of Affected Public: HUD Office of Healthy Homes and Lead Hazard Control's Lead-Based Paint Hazard Control grantees and Lead Hazard Reduction Demonstration grantees, and the grantees' lead hazard control contractors.

Total Burden Estimate
Requirement | Number of respondents | Hours per respondent | Total hours | Cost per hour | Labor cost | Startup cost | O&M cost | Total cost
Complete questionnaire | 100 | 16 | 1600 | $32.75 | $52,400 | $0 | $0 | $52,400
Total | 100 |  | 1600 |  | 52,400 | 0 | 0 | 52,400

Status of the Proposed Information Collection: New request.

Authority: The Paperwork Reduction Act of 1995, 44 U.S.C. Chapter 35, as amended.

Dated: June 15, 2012.
Jon L. Gant,
Director, HUD Office of Healthy Homes and Lead Hazard Control.

[FR Doc. 2012-15313 Filed 6-21-12; 8:45 am]

BILLING CODE 4210-67-P